NUCLEAR REGULATORY COMMISSION

[Docket Nos. 50-327 and 50-328; NRC-2014-0045]

Tennessee Valley Authority, Sequoyah Nuclear Plant, Units 1 and 2

AGENCY: Nuclear Regulatory Commission.

ACTION: License amendment application; withdrawal by applicant.

SUMMARY: The U.S. Nuclear Regulatory Commission (NRC) has granted the request of Tennessee Valley Authority (the licensee) to withdraw its application dated July 3, 2013, for a proposed amendment to DPR-77 and DPR-79. The proposed amendment would have revised Units 1 and 2 Technical Specification ¾.6.5, “Ice Condenser.”

DATES: October 11, 2016.

ADDRESSES: Please refer to Docket ID NRC-2014-0045 when contacting the NRC about the availability of information regarding this document. You may obtain publicly-available information related to this document using any of the following methods:

• Federal Rulemaking Web site: Go to http://www.regulations.gov and search for Docket ID NRC-2014-0045. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Andrew Hon, Office of Nuclear Reactor Regulation, U.S. Nuclear Regulatory Commission, Washington DC 20555-0001; telephone: 301-415-8480, email: Andrew.Hon@nrc.gov.

SUPPLEMENTARY INFORMATION: The NRC has granted the request of Tennessee Valley Authority (the licensee) to withdraw its July 3, 2013, application (ADAMS Accession No. ML13199A281) for proposed amendment to Facility Operating License Nos. DPR-77 and DPR-79 issued to the licensee for operation of the Sequoyah Nuclear Plant, Units 1 and 2, located in Hamilton County, Tennessee.

The licensee requested to revise Sequoyah Nuclear Plant, Units 1 and 2 Technical Specification ¾.6.5, “Ice Condenser,” to increase the total ice weight from 2,225,880 pounds to 2,540,808 pounds. This proposed amendment request was noticed in the Federal Register (79 FR 12246) dated March 4, 2014, and supplemented by letters dated February 13, 2014 (ML14045A290) and April 10, 2015 (ML15117A566).

Dated at Rockville, Maryland, this 3rd day of October 2016.
For the Nuclear Regulatory Commission.
Jeanne A. Dion,
Acting Chief, Plant Licensing Branch II-2, Division of Operating Reactor Licensing, Office of Nuclear Reactor Regulation.

[FR Doc. 2016-24456 Filed 10-7-16; 8:45 am]

BILLING CODE 7590-01-P